DEPARTMENT OF COMMERCE

Foreign-Trade Zones Board

[B-73-2012]

Foreign-Trade Zone 181—Akron/Canton, OH, Authorization of Production Activity, Cimbar Performance Minerals, (Barium Sulfate Grinding), Wellsville, OH

On October 10, 2012, the Northeast Ohio Trade & Economic Consortium, grantee of FTZ 181, submitted a notification of proposed production activity to the Foreign-Trade Zones (FTZ) Board on behalf of Cimbar Performance Minerals, within FTZ 181—Site 12, in Wellsville, Ohio.

The notification was processed in accordance with the regulations of the FTZ Board (15 CFR part 400), including notice in the Federal Register inviting public comment (77 FR 63290, October 16, 2012). The FTZ Board has determined that no further review of the activity is warranted at this time. The production activity described in the notification is authorized, subject to the FTZ Act and the Board's regulations, including Section 400.14.

Dated: February 6, 2013.
Andrew McGilvray,
Executive Secretary.

[FR Doc. 2013-03739 Filed 2-15-13; 8:45 am]

BILLING CODE P